FEDERAL EMERGENCY MANAGEMENT AGENCY

44 CFR part 67

[Docket No. FEMA-P-7609]

Proposed Flood Elevation Determinations

AGENCY: Federal Emergency Management Agency (FEMA).

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Matthew B. Miller, P.E., Chief, Hazards Study Branch, Federal Insurance and Mitigation Administration, FEMA, 500 C Street, SW., Washington, DC 20472, (202) 646-3461 or (e-mail) matt.miller@fema.gov.

SUPPLEMENTARY INFORMATION: FEMA proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Acting Administrator for Federal Insurance and Mitigation Administration certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification

This proposed rule is not a significant regulatory action under the criteria of section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of section 2(b)(2) of Executive Order 12778.

List of Subjects in 44 CFR Part 67

Administrative practice and procedure, flood insurance, reporting and record keeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet. (NGVD) ◆(NAVD): Existing | #Depth in feet above ground. *Elevation in feet. (NGVD) ◆(NAVD): Modified
Arkansas | Saline County (Unincorporated Areas) | Clear Creek | Approximately 4,800 feet downstream of U.S. Route 167 | None | 252
|  |  | Approximately 350 feet upstream of U.S. Route 167 | None | 270
|  | Duck Creek | Approximately 6,000 feet downstream of S. Springlake Road | None | 253
|  |  | Approximately 300 feet downstream U.S. Route 167 | None | 275
|  | Hopt Branch | Approximately 1,500 feet downstream of Honeysuckle Drive | None | 268
|  |  | Approximately 4,250 feet upstream of Honeysuckle Drive | None | 285
|  | Maple Creek | Approximately 6,200 feet downstream of U.S. Route 65 | None | 237
|  |  | Just upstream of Springlake Road | None | 287
|  | Maple Creek Tributary | Approximately 4,500 feet downstream of U.S. Route 167 | None | 247
|  |  | Approximately 100 feet upstream of U.S. Route 167 | None | 255
|  | McCright Branch | Approximately 2,000 feet downstream of Pear Orchard Drive | None | 285
|  |  | Approximately 150 feet upstream of Dena Drive | None | 310
|  | Owen Creek | Approximately 5,000 feet downstream of Midland Road | None | 323
|  |  | Approximately 2,000 feet upstream of Hilldale Road | None | 413
Maps are available for inspection at the Saline County Assessor's Office, Real Estate Department 215, Maine Suite 5, Benton, Arkansas.
Send comments to The Honorable Lanny Fite, Judge, Saline County, 200 North Main Street, Benton, Arkansas 72015.
Kansas | Wamego, City of (Pottawatomie County) | East Unnamed Creek | Approximately 1000 feet upstream of Pizza Hut Road | None | 1019
|  |  | Approximately 900 feet upstream of Missile Base Road | None | 1041
|  | East Unnamed Creek Tributary | Approximately 700 feet upstream of the mouth | None | 1003
|  |  | Approximately 850 feet upstream of Graves Road | None | 1012
|  | North Unnamed Tributary | Just upstream of U.S. Highway 24 | None | 987
|  |  | Approximately 100 feet upstream of Spencer Road | None | 991
Maps are available for inspection at the City of Wamego, 430 Lincoln Avenue, Wamego, Kansas.
Send comments to The Honorable David Vanderbilt, Mayor, City of Wamego, P.O. Box 86, Wamego, Kansas 66547.
Louisiana | Delcambre, Town of (Iberia and Vermilion Parish) | Gulf of Mexico | Intersection of South Railroad Street and East Charity Street | *11 | *10
|  |  | Intersection of North Railroad Street and Kirk Street | *11 | *9
Maps are available for inspection at the Office of the Mayor, Town of Delcambre, 107 N. Railroad Road, Delcambre Louisiana.
Send comments to The Honorable Carol Broussard, Mayor, Town of Delcambre, 107 N. Railroad Road, Delcambre, Louisiana 70528.
Minnesota | Northfield, City of (Dakota and Rice Counties) | Cannon River | At downstream corporate limits | 899 | 890
|  |  | Approximately 1,200 feet upstream of the corporate limits (Limit of flooding affecting acommunity) | 918 | 913
Maps are available for inspection at 801 Washington Street, Northfield, Minnesota.
Send comments to The Honorable Keith Covey, Mayor, City of Northfield, 801 Washington Street, Northfield, Minnesota 55057.
Minnesota | St. Paul, City of (Ramsey County) | Mississippi River | Approximately 120 feet upstream of the corporate limits | 704 | 705
|  |  | Just downstream of Lock and Dam No. 1 | 717 | 716
Maps are available for inspection at the St. Paul Planning & Economic Development, 1300 City Hall Annex, 25 West 4th Street, St. Paul, Minnesota.
Send comments to The Honorable Randy Kelly, Mayor, City of St. Paul, 15 West Kellogg Boulevard, St. Paul, Minnesota 55102.
Missouri | Albany, City of (Gentry County) | East Fork Grand River |  | None | *849
|  | Town Branch |  | None | *846-868
|  | Town Branch Tributary |  | None | *850-870
Maps are available for inspection at City Hall, 106 East Clay Street, Albany, Missouri.
Send comments to The Honorable John Ricks, Mayor, City of Albany, 106 East Clay Street, Albany, Missouri 64402.
Missouri | Dalton, Village of (Chariton County) | Missouri River |  | None | *642-643
Maps are available for inspection at the Chairman's Home, 109 N. Sycamore Street, Dalton, Missouri.
Send comments to The Honorable Donald Hughes, Chairman, Village of Dalton, 109 N. Sycamore Street, Dalton, Missouri 65246.
Missouri | Dunklin County (Unincorporated Areas) | Shallow flooding | Area north of State Route 84 and south of railroad | *258 | *259
Maps are available for inspection at the Courthouse, Court Square, Kennett, Missouri.
Send comments to Mr. Don Collins, Presiding Commissioner, Dunklin County, P.O. Box 188, Kennett, Missouri 63857.
Missouri | Pemiscot County (Unincorporated Areas) | Shallow flooding | Area along Route A about 2,000 feet north of State Route 84 | *258 | *259
|  |  | Area south of City of Bragg City, west of Main Street | *257 | *259
|  |  | Area south of City of Bragg City, east of Main Street | *258 | *259
Maps are available for inspection at the Courthouse, 610 Ward Avenue, Caruthersville, Missouri.
Send comments to Mr. Charles Moss, Presiding Commissioner, Pemiscot County, 610 Ward Avenue, Caruthersville, MO 63830.
Nebraska | Pilger, Village of (Stanton County) | Elkhorn River |  | None | *1406-1411
Maps are available for inspection at 220 North Main Street, Pilger, Nebraska.
Send comments to The Honorable Andy Anderson, Chairman, Village of Pilger, 220 North Main Street, Pilger, Nebraska 68768.
Nebraska | Stanton, City of (Stanton County) | Elkhorn River |  | None | *1444-1462
Maps are available for inspection at 800 Eleventh Street, Stanton Nebraska.
Send comments to The Honorable Tim Kabes, Mayor, City of Stanton, 800 Eleventh Street, Stanton, Nebraska 68779.
Texas | Galveston County (Unincorporated Areas) | Gulf of Mexico | North of FM 3005, from approximately 1,000 feet west of its intersection with Pirates Beach Circle to approximately 300 feet east of 12 Mile Road | *13 | ◆17
|  |  | At shoreline, near the Southern terminus of San Domingo Drive, about 100 feet west of the City of Galveston corporate limit, to the corporate limit | *19 | ◆20
Maps are available for inspection at 123 Rosenberg Street, Suite 4157, Galveston, Texas.
Send comments to The Honorable Jim Yarborough, Galveston County Judge, 722 Moody Street, Suite 200, Galveston, Texas 77550.
Texas | Galveston, City of (Galveston County) | Gulf of Mexico | At the northern terminus of 9 Mile Road | *13 | ◆18
|  |  | Along the shoreline extending from approximately 1,500 feet east of the southern terminus of 11 Mile Road to Pabst Road | *19 | ◆20
Maps are available for inspection at City Hall, 823 Rosenberg Street, Galveston, Texas.
Send comments to The Honorable Roger Quiroga, Mayor, City of Galveston, 823 Rosenberg Street, Galveston, Texas 77550.
Texas | Jamaica Beach, Village of (Galveston County) | Gulf of Mexico | From the canal northwest of Bahama Way to West Bay | *12 | ◆14
|  |  | Along the shoreline extending from the western corporate limit to the southern terminus of Buccaneer Drive | *18 | ◆20
Maps are available for inspection at 16628 San Luis Pass Road, Jamaica Beach, Texas.
Send comments to the Honorable Victor Pierson, Mayor, Village of Jamaica Beach, 16628 San Luis Pass Road, Jamaica Beach, Texas 77554.

(Catalog of Federal Domestic Assistance No. 83.100, “Flood Insurance”)
Dated: July 15, 2002.
Robert F. Shea,
Acting Administrator, Federal Insurance and Mitigation Administration.

[FR Doc. 02-18530 Filed 7-22-02; 8:45 am]

BILLING CODE 6718-04-P